ENVIRONMENTAL PROTECTION AGENCY

40 CFR Part 52

[EPA-R06-OAR-2017-0699; FRL-9971-87-Region 6]

Approval and Promulgation of Implementation Plans; Arkansas; Revisions to the Definitions for Arkansas Plan of Implementation for Air Pollution Control: Volatile Organic Compounds

AGENCY: Environmental Protection Agency (EPA).

ACTION: Proposed rule.

SUMMARY: The Environmental Protection Agency (EPA) is proposing to approve a portion of the revision to the Arkansas State Implementation Plan (SIP) submitted by Arkansas Department of Environmental Quality (ADEQ) on March 24, 2017. The revision modifies the definition of volatile organic compounds (VOC). Specifically, the submitted revision will incorporate the EPA's latest definition of VOC on the basis that these compounds make negligible contribution to tropospheric ozone formation. This action is being taken pursuant to the Clean Air Act.

DATES: Written comments should be received on or before January 22, 2018.

ADDRESSES: Submit your comments, identified by EPA-R06-OAR-2017-0699, at http://www.regulations.gov or via email to Ms. Nevine Salem. For additional information on how to submit comments see the detailed instructions in the ADDRESSES section of the direct final rule located in the rules section of this Federal Register.

FOR FURTHER INFORMATION CONTACT: Ms. Nevine Salem, (214) 665-7222, salem.nevine@epa.gov.

SUPPLEMENTARY INFORMATION: In the final rules section of this issue of the Federal Register, the EPA is approving the State's SIP submittal as a direct rule without prior proposal because the Agency views this as noncontroversial submittal and anticipates no adverse comments. A detailed rationale for the approval is set forth in the direct final rule. If no relevant adverse comments are received in response to this action no further activity is contemplated. If the EPA receives relevant adverse comments, the direct final rule will be withdrawn and all public comments received will be addressed in a subsequent final rule based on this proposed rule. The EPA will not institute a second comment period. Any parties interested in commenting on this action should do so at this time.

For additional information, see the direct final rule which is located in the rules section of this issue of the Federal Register.

Dated: December 15, 2017.
Samuel Coleman,
Acting Regional Administrator, Region 6.

[FR Doc. 2017-27459 Filed 12-20-17; 8:45 am]

BILLING CODE 6560-50-P